DEPARTMENT OF HOMELAND SECURITY

Coast Guard

33 CFR Part 117

[Docket No. USCG-2016-0677]

Drawbridge Operation Regulation; Berwick Bay-Atchafalaya River, Morgan City, LA

AGENCY: Coast Guard, DHS.

ACTION: Notice of deviation from drawbridge regulations.

SUMMARY: The Coast Guard has issued a temporary deviation from the operating schedule that governs the Morgan City Railroad Bridge across Berwick Bay at mile 17.5 of the Atchafalaya River and the Gulf Intracoastal Waterway, Morgan City to Port Allen Alternate Route, mile 0.3 in Morgan City, St. Mary Parish, Louisiana. The deviation is necessary to conduct maintenance on the bridge. This deviation allows the bridge to remain temporarily closed to navigation for five hours.

DATES: This deviation is effective from 7 a.m. to noon on August 25, 2016.

ADDRESSES: The docket for this deviation, [USCG-2016-0677] is available at http://www.regulations.gov. Type the docket number in the “SEARCH” box and click “SEARCH”. Click on Open Docket Folder on the line associated with this deviation.

FOR FURTHER INFORMATION CONTACT: If you have questions on this temporary deviation, call or email David Frank, Bridge Administration Branch, Coast Guard; telephone 504-671-2128, email david.m.frank@uscg.mil.

SUPPLEMENTARY INFORMATION: The Burlington Northern Santa Fe Railway Company requested a temporary deviation from the operating schedule of the Morgan City Railroad Bridge across Berwick Bay at mile 17.5 of the Atchafalaya River and the Gulf Intracoastal Waterway, Morgan City to Port Allen Alternate Route, mile 0.3 in Morgan City, St. Mary Parish, Louisiana. This deviation was requested to allow the bridge owner to replace a cracked joint on the west end of the bridge. This bridge is governed by 33 CFR 117.5.

This deviation allows the vertical lift bridge to remain closed to navigation from 7 a.m. to noon on Thursday, August 25, 2016. The bridge has a vertical clearance of 4 feet above high water in the closed-to-navigation position and 73 feet above high water in the open-to-navigation position. Navigation on the waterway consists of tugs with tows, oil industry related work boats and crew boats, commercial fishing vessels and some recreational craft.

Vessels able to pass through the bridge in the closed position may do so at any time and should pass at the slowest safe speed. The bridge will not be able to open for emergencies and the Morgan City-Port Allen Landside route through Amelia, LA is the closest available alternate route.

The Coast Guard will also inform the users of the waterways through our Local and Broadcast Notices to Mariners of the change in operating schedule for the bridge.

In accordance with 33 CFR 117.35(e), the drawbridge must return to its regular operating schedule immediately at the end of the effective period of this temporary deviation. This deviation from the operating regulations is authorized under 33 CFR 117.35.

David M. Frank,
Bridge Administrator, Eighth Coast Guard District.

[FR Doc. 2016-18968 Filed 8-9-16; 8:45 am]

BILLING CODE 9110-04-P